GENERAL SERVICES ADMINISTRATION

[OMB Control No. 3090-00XX; Docket No. 2015-0001; Sequence No. 26]

Submission for OMB Review; Simplifying Federal Award Reporting

AGENCY: Federal Acquisition Service; General Services Administration (GSA).

ACTION: Notice of request for comments regarding a new request for an OMB clearance.

SUMMARY: Under the provisions of the Paperwork Reduction Act, the Regulatory Secretariat Division will be submitting to the Office of Management and Budget (OMB) a request to review and approve a new information collection requirement regarding OMB Control No: 3090-00XX; Simplifying Federal Award Reporting. A 60-day notice was published in the Federal Register at 80 FR 73187 on November 24, 2015. One comment was received.

DATES: Submit comments on or before: May 31, 2016.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching for “Information Collection 3090-00xx; Simplifying Federal Award Reporting”. Select the link “Submit a Comment” that corresponds with “Information Collection 3090-00XX; Simplifying Federal Award Reporting”. Follow the instructions provided at the “Submit a Comment” screen. Please include your name, company name (if any), and “Information Collection 3090-00xx; Simplifying Federal Award Reporting” on your attached document.

• Mail: General Services Administration, Regulatory Secretariat Division (MVCB), 1800 F Street NW., Washington, DC 20405. ATTN: Ms. Flowers/IC 3090-00XX, Simplifying Federal Award Reporting.

Instructions: Please submit comments only and cite Information Collection 3090-00XX; Simplifying Federal Award Reporting, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Kenneth Goldman, GSA, at telephone 202-779-2265.

SUPPLEMENTARY INFORMATION:

A. Purpose

The President's Management Agenda includes objectives for creating a twenty-first century government that delivers better results to the American people in a more efficient manner. Leveraging information technology capabilities to reduce reporting burden is key to achieving these goals. Section 5 of the Digital Accountability and Transparency Act (Pub. L. 113-101) requires a pilot program to develop recommendations for standardizing reporting, eliminating unnecessary duplication, and reducing compliance costs for recipients of Federal awards.

The pilot participants are required to provide requested reports as well as the cost to collect the data via the pilot. The proposed pilot program will provide an alternative submission method for existing Federal Acquisition Regulation (FAR) requirements, and assess the pilot results against the existing FAR-required method.

B. Discussion and Analysis

Comment: “The best way to simplify these numerous, massive, expensive awards is to shut them all down. They are all fake and mean nothing so who will miss them. Certainly we all know they are fake. They are voted on not because the awarded has done anything noteworthy. They are simply awards for being alive. They all need to be cut. The budget for giving awards should be zero, totally zero.”

Response: Thank you for reviewing the Federal Register Notice. The comment addresses awards that are part of a voting process which appears to be associated with individual personnel awards. However, the Federal Register Notice focuses on streamlining reporting burden for Federal contract awards. If the comment is intended to address Federal contract awards, the commenter is encouraged to visit the Chief Acquisition Officers Council (CAOC) National Dialogue: Improving Federal Procurement and Grants Processes to engage in a more robust discussion (link: https://cxo.dialogue2.cao.gov/ ).

C. Annual Reporting Burden

Respondents: 720.

Responses per Respondent: 3 each week.

Total Annual Responses: 2160.

Hours per Response: .5.

Total Burden Hours: 56,160.

Public comments are particularly invited on: Whether this collection of information will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 3090-XXXX, Simplifying Federal Award Reporting, in all correspondence.

Dated: April 21, 2016.
David A. Shive,
Chief Information Officer.

[FR Doc. 2016-09912 Filed 4-27-16; 8:45 am]

BILLING CODE 6820-61-P